DEPARTMENT OF COMMERCE

International Trade Administration

[A-570-932]

Certain Steel Threaded Rod From the People's Republic of China: Final Results and Final Partial Rescission of Antidumping Duty Administrative Review; 2010-2011

AGENCY: Import Administration, International Trade Administration, Department of Commerce.

SUMMARY: On May 8, 2012, the Department of Commerce (“Department”) published in the Federal Register the Preliminary Results of the second administrative review of the antidumping duty order on certain steel threaded rod from the People's Republic of China (“PRC”) for the period of review (“POR”) April 1, 2010, through March 31, 2011.¹ Based upon our analysis of the comments and information received, we continue to find that RMB Fasteners Ltd., and IFI & Morgan Ltd. (collectively “RMB/IFI Group”) has sold subject merchandise at less than normal value.

¹ See Certain Steel Threaded Rod From the People's Republic of China: Preliminary Results of the Administrative Review, Intent To Rescind, and Rescission, in Part, 77 FR 27022 (May 8, 2012) (“Preliminary Results”).

DATES: Effective Date: November 9, 2012.

FOR FURTHER INFORMATION CONTACT: Jerry Huang, AD/CVD Operations, Office 9, Import Administration, International Trade Administration, Department of Commerce, 14th Street and Constitution Avenue NW., Washington, DC 20230; telephone: 202-482-4047.

SUPPLEMENTARY INFORMATION:

Background

On May 8, 2012, the Department published the Preliminary Results. In the Preliminary Results, the Department indicated its intent to rescind the review with respect to Gem-Year Industrial Co., Ltd. (“Gem-Year”) and Haiyan Julong Standard Part Co., Ltd. (“Haiyan Julong”) for lack of shipments.²

² See Preliminary Results, 77 FR at 27024.

On June 8, 2012, the RMB/IFI Group submitted factor usage information that the Department requested for two control numbers that were not produced during the POR. On June 19, 2012, the RMB/IFI Group submitted additional surrogate value information for the final results. Interested parties were further provided an opportunity to comment on the Preliminary Results. Between July 17 and July 24, 2012, we received case and rebuttal briefs from interested parties. On August 24, 2012, the Department extended the time limit for these final results by 60 days.³

³ See Department's Memorandum, re: “Certain Steel Threaded Rod from the People's Republic of China: Extension of Deadline for Final Results of Antidumping Duty Administrative Review,” dated August 24, 2012.

Analysis of Comments Received

All issues raised in the case and rebuttal briefs by parties to this review are addressed in the memorandum entitled, “Issues and Decision Memorandum for the Final Results of the Second Administrative Review of Certain Steel Threaded Rod from the People's Republic of China” (“I&D Memo”), which is dated November 5, 2012, and hereby adopted by this notice. A list of the issues that parties raised, and to which we respond in the I&D Memo is attached to this notice as Appendix I. The I&D Memo is a public document and is on file electronically via Import Administration's Antidumping and Countervailing Duty Centralized Electronic Service System (“IA ACCESS”). IA ACCESS is available to registered users at http://iaaccess.trade.gov and in the Central Records Unit (“CRU”), room 7046 of the main Department of Commerce building. In addition, a complete version of the I&D Memo can be accessed directly on the internet at http://www.trade.gov/ia/. The signed I&D Memo and the electronic versions of the I&D Memo are identical in content.

Changes Since the Preliminary Results

The Department has made changes to the preliminary margin calculation for the RMB/IFI Group. Specifically, we relied on factor usage information submitted after the Preliminary Results for the two control numbers that were not produced during the POR and updated the Thai import statistics used to value steel wire rod based on the specific carbon content reported by the RMB/IFI Group for its steel wire rod consumption.⁴

⁴ See I&D Memo at Comments 1 and 3.

Scope of the Order

The merchandise covered by the order is steel threaded rod. Steel threaded rod is certain threaded rod, bar, or studs, of carbon quality steel, having a solid, circular cross section, of any diameter, in any straight length, that have been forged, turned, cold-drawn, cold-rolled, machine straightened, or otherwise cold-finished, and into which threaded grooves have been applied. Certain steel threaded rod subject to the order is currently classifiable in the Harmonized Tariff Schedule of the United States (“HTSUS”) at subheadings 7318.15.5051, 7318.15.5056, 7318.15.5090, and 7318.15.2095.⁵ Although the subheadings are provided for convenience and customs purposes, the written product description, available in Certain Steel Threaded Rod from the People's Republic of China: Notice of Antidumping Duty Order, 74 FR 17154 (April 14, 2009), remains dispositive.

⁵ As part of these final results, the Department has modified the language of the scope to reflect the fact that HTSUS subheading 7318.15.5050 has been deleted and replaced with subheadings 7318.15.5051 and 7318.15.5056. See I&D Memo at Comment 2.

PRC-Wide Entity

As noted in the Preliminary Results, upon initiation of the administrative review, we provided an opportunity for all companies for which the review was initiated to complete either the separate rate application or certification.⁶ The Department preliminarily determined that New Pole Power Systems Co., Ltd. (“New Pole”) failed to demonstrate eligibility for a separate rate and is thus properly considered not to be separate from the PRC-wide entity.⁷ Further, in the Preliminary Results we assigned the PRC-wide entity a rate of 206.00 percent, the only rate ever determined for the PRC-wide entity in this proceeding.⁸ No party submitted comments regarding this finding. Therefore, for these final results, we continue to assign the PRC-wide entity a rate of 206.00 percent.⁹

⁶ See Preliminary Results, 77 FR at 27024.

⁷ See id.

⁸ See, e.g., Certain Steel Threaded Rod from the People's Republic of China: Final Determination of Sales at Less Than Fair Value, 74 FR 8907 (February 27, 2009).

⁹ See Certain Steel Threaded Rod from the People's Republic of China: Final Determination of Sales at Less Than Fair Value, 74 FR 8907, 8910 (February 27, 2009).

Final Partial Rescission

In the Preliminary Results, the Department indicated its intent to rescind this review with respect to Gem-Year and Haiyan Julong upon preliminarily determining that they had no shipments of subject merchandise to the United States during the POR.¹⁰ Subsequent to the Preliminary Results, no information was submitted on the record indicating that they made sales to the United States of subject merchandise during the POR and no party provided written arguments regarding this issue. Thus, in accordance with 19 CFR 351.213(d)(3), and consistent with our practice,¹¹ we are rescinding this review with respect to Gem-Year and Haiyan Julong.

¹⁰ See Preliminary Results, 77 FR at 27024.

¹¹ See, e.g., Certain Tissue Paper Products from the People's Republic of China: Preliminary Results and Partial Rescission of Antidumping Duty Administrative Review, 73 FR 18497, 18500 (April 4, 2008) (preliminarily rescinding review because of lack of reviewable entries), unchanged in Certain Tissue Paper Products from the People's Republic of China: Final Results and Final Rescission, in Part, of Antidumping Duty Administrative Review, 73 FR 58113 (October 6, 2008).

Final Results of Review

The dumping margins for the POR are as follows:

Exporter | Weighted- average margin (percent)
RMB Fasteners Ltd., and IFI & Morgan Ltd. (“RMB/IFI Group”) | 19.68
PRC-wide Entity | 206.00

The Department will disclose calculations performed for these final results to the parties within five days of the date of publication of this notice, in accordance with 19 CFR 351.224(b).

Assessment

Upon issuance of the final results, the Department will determine, and U.S. Customs and Border Protection (“CBP”) shall assess, antidumping duties on all appropriate entries. The Department intends to issue assessment instructions to CBP 15 days after the date of publication of the final results of review. For any individually examined respondents whose weighted-average dumping margin is above de minimis, we calculated importer-specific ad valorem duty assessment rates based on the ratio of the total amount of antidumping duty calculated for the importer's examined sales to the total entered value of those same sales in accordance with 19 CFR 351.212(b)(1).¹² We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties.

¹² In these final results, the Department applied the assessment rate calculation method adopted in Antidumping Proceedings: Calculation of the Weighted-Average Dumping Margin and Assessment Rate in Certain Antidumping Proceedings: Final Modification, 77 FR 8101 (February 14, 2012).

Cash Deposit Requirements

The following cash deposit requirements will be effective upon publication of the final results of this administrative review for all shipments of the subject merchandise entered, or withdrawn from warehouse, for consumption on or after the publication date, as provided for by section 751(a)(2)(C) of the Tariff Act of 1930, as amended, (“the Act”): (1) For the RMB/IFI Group, the cash deposit rate will be the rate established in the final results of review (except, if the rate is zero or de minimis, i.e., less than 0.5 percent, a zero cash deposit rate will be required for that company); (2) for previously investigated or reviewed PRC and non-PRC exporters not listed above that have a separate rate, the cash deposit rate will continue to be the exporter-specific rate published for the most recent period; (3) for all PRC exporters of subject merchandise which have not been found to be entitled to a separate rate, the cash deposit rate will be the PRC-wide rate of 206.00 percent; and (4) for all non-PRC exporters of subject merchandise which have not received their own rate, the cash deposit rate will be the rate applicable to the PRC exporters that supplied that non-PRC exporter. The deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: November 5, 2012
Paul Piquado,
Assistant Secretary for Import Administration.

Appendix I

Comment 1. Surrogate Country Selection

A. Economic Comparability and Significant Producer

B. Data Availability

(1) Surrogate Value for Steel Inputs

(2) Surrogate Value for Hydrochloric Acid

(3) Surrogate Financial Ratios

Comment 2. Correcting the Harmonized Tariff Schedule Numbers Within the Scope

Comment 3. Factors of Production for Control Numbers Not Produced During the POR

[FR Doc. 2012-27438 Filed 11-8-12; 8:45 am]

BILLING CODE 3510-DS-P